DEPARTMENT OF VETERANS AFFAIRS

Notice of Establishment of the Creating Options for Veterans' Expedited Recovery Commission (COVER Commission)

The Department of Veterans Affairs (VA) hereby gives notice, under the Federal Advisory Committee Act of the establishment of the Creating Options for Veterans' Expedited Recovery Commission (“COVER Commission”), authorized by section 931 of the Comprehensive Addiction and Recover Act of 2016 (CARA).

The COVER Commission will examine the evidence-based therapy treatment model used by the Secretary of Veterans Affairs for treating mental health conditions of veterans and the potential benefits of incorporating complementary and integrative health treatments available in non-Department facilities.

The COVER Commission members will be comprised of 10 voting members who are appointed by the President and Congressional leadership for the life of the COVER Commission in accordance with section 931(c) of CARA.

Any member of the public seeking additional information should contact Alfred Ozanian, Assistant Deputy Director, Mental Health Operations (10NC5), Veterans Health Administration, Department of Veterans Affairs, 810 Vermont Avenue NW., Washington, DC or email at Alfred.Ozanian2@va.gov or phone at 202-461-5936.

Dated: July 25, 2017.
LaTonya L. Small,
Federal Advisory Committee Management Officer.

[FR Doc. 2017-15998 Filed 7-28-17; 8:45 am]

BILLING CODE P